DEPARTMENT OF THE INTERIOR

Fish and Wildlife Service

[FWS-R3-ES-2013-N194; FXHC11300300000-134-FF03E00000]

Notice of Availability of the Draft Southeast Missouri Ozarks Regional Restoration Plan and Environmental Assessment

AGENCY: Fish and Wildlife Service, Interior.

ACTION: Notice of availability; request for public comments.

SUMMARY: The United States Department of the Interior (DOI), acting through the U.S. Fish and Wildlife Service (FWS); the United States Department of Agriculture (USDA), acting through the U.S. Forest Service (USFS); and the State of Missouri, acting through the Missouri Department of Natural Resources have written a Draft Southeast Missouri Regional Restoration Plan and Environmental Assessment (Plan), which describes proposed alternatives for restoring injured natural resources in the Southeast Missouri Ozarks region, and an environmental assessment as required pursuant to the National Environmental Policy Act (NEPA). The purpose of this notice is to inform the public of the availability of the Draft Plan and to seek written comments. This notice is provided pursuant to Natural Resource Damage Assessment and Restoration (NRDAR) regulations and NEPA regulations.

DATES: Written comments must be postmarked no later than November 4, 2013.

ADDRESSES: Reviewing Documents: Interested members of the public are invited to review the Plan.

• Internet: Copies of the Plan can viewed online at:

○ http://www.fws.gov/midwest/es/ec/nrda/SEMONRDA/index.html or

○ http://www.dnr.mo.gov/env/hwp/sfund/nrda.htm.

• U.S. mail: Copies of the Plan can be requested from:

○ John Weber, Restoration Coordinator, U.S. Fish & Wildlife Service, 101 Park DeVille Dr. Suite A, Columbia, MO 65203, or

○ Tim Rielly, Natural Resource Damages Coordinator, Missouri Department of Natural Resources, P.O. Box 176, Jefferson City, MO 65102-0176.

• Email: You may request copies of the Plan by sending electronic mail (email) to John_S_Weber@fws.gov or Tim.Rielly@dnr.mo.gov. Do not use any special characters or forms of encryption in your email.

• On-site review: Available at the Columbia, MO, address above or at Missouri Department of Natural Resources, 1730 E. Elm St., Jefferson City, Missouri.

Submitting Comments: Submit all comments by U.S. mail to Tim Rielly, Natural Resource Damages Coordinator, Missouri Department of Natural Resources, P.O. Box 176, Jefferson City, MO 65102-0176.

See Public Involvement under SUPPLEMENTARY INFORMATION for information on public availability of comments.

FOR FURTHER INFORMATION CONTACT: Technical Information: John Weber, (573) 234-2132 (x177)

State of Missouri Natural Resource Damages Assessment Manager: Tim Rielly (573) 526-3353.

SUPPLEMENTARY INFORMATION: The DOI (represented by the FWS), the USDA (represented by the USFS), and the State of Missouri, acting through the Missouri Department of Natural Resources, together are trustees (Trustees) for natural resources considered in this restoration plan, pursuant to subpart G of the National Oil and Hazardous Substances Pollution Contingency Plan (40 CFR 300.600 and 300.610) and Executive Order 12580. The Memorandum of Understanding Between the Missouri Department of Natural Resources, U.S. Department of the Interior, and U.S. Department of Agriculture establishes a Trustee Council charged with developing and implementing a restoration plan for ecological restoration in the Southeast Missouri Ozarks.

The Trustees followed the Natural Resource Damage Assessment and Restoration (NRDAR) regulations found at 43 CFR part 11 for the development of the Plan. The draft Southeast Missouri Ozarks Regional Restoration Plan and Environmental Assessment will be finalized prior to implementation after all public comments received during the public comment period are considered. Any significant additions or modifications to the Plan as restoration actions proceed will be made available for public review before any additions or modification are undertaken.

The objective of the NRDAR process in the Southeast Missouri Ozarks is to compensate the public, through environmental restoration, for losses of natural resources that have been injured by releases of hazardous substances into the environment. The Comprehensive Environmental Response, Compensation, and Liability Act (CERCLA, more commonly known as the Federal “Superfund” law) [42 U.S.C. 9601 et seq.] and the Federal Water Pollution Control Act (commonly known as the Clean Water Act (CWA)) [33 U.S.C. 1251 et seq.] authorize States, federally recognized tribes, and certain Federal agencies that have authority for natural resources “belonging to, managed by, controlled by or appertaining to or otherwise controlled by the United States ” to act as “trustees” on behalf of the public, to restore, rehabilitate, replace, and/or acquire natural resources equivalent to those injured by releases of hazardous substances.

The Trustees worked together in a cooperative process to identify appropriate restoration activities to address natural resource injuries caused by releases of hazardous substances into the Southeast Missouri Ozarks environment. The results of this administrative process are contained in the planning and decision document being published for public review under CERCLA. Natural resource damages received, either through negotiated settlements or adjudicated awards, must be used to restore, rehabilitate, replace and/or acquire the equivalent of those injured natural resources. The Plan addresses the Trustees' overall approach to restore, rehabilitate, replace and/or acquire the equivalent of natural resources injured by the release of hazardous substances into the Southeast Missouri Ozarks environment.

Public Involvement

Interested members of the public are invited to review and comment on the Plan. Copies can be requested from the addresses and Web sites listed above. Comments on the Plan should be sent to the Missouri Department of Natural Resources at the address listed above.

The U.S. Fish and Wildlife Service will provide copies of all comments to the other Trustees. All comments received from individuals become part of the official public record. Requests for such comments will be handled in accordance with the Freedom of Information Act and the Council on Environmental Quality's NEPA regulations (40 CFR 1506.6(f)), as well as the State of Missouri's Sunshine Law (Chapter 610, RSMo.).

The Trustees' practice is to make comments, including names and home addresses of respondents, available for public review during regular business hours. Individual respondents may request that their home address is withheld from the record, which each agency will honor to the extent allowable by law. If a respondent wishes to withhold his/her name and/or address, this must be stated prominently at the beginning of the comment.

Authority

This notice is provided pursuant to NRDAR regulations (43 CFR 11.81(d)(4)) and NEPA regulations (40 CFR 1506.6).

Dated: September 6, 2013.
Charlie Wooley,
Acting Regional Director, U.S. Fish and Wildlife, Region 3.

[FR Doc. 2013-22953 Filed 9-19-13; 8:45 am]

BILLING CODE 4310-55-P